DEPARTMENT OF COMMERCE

[I.D. 051004A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Permit Family of Forms.

Form Number(s): None.

OMB Approval Number: 0648-0202.

Type of Request: Regular submission.

Burden Hours: 27,097.

Number of Respondents: 42,334.

Average Hours Per Response: An initial vessel permit application requires an estimated 45 minutes to complete, while preprinted vessel permit renewal forms require an estimated 30 minutes per response. Initial dealer permit applications take an estimated 15 minutes to complete, while preprinted dealer permit renewal forms require an estimated 5 minutes to complete. The initial and renewal vessel operator permit applications are estimated to take an average of 1 hour to complete due to the color photograph submission requirement. Limited access vessel upgrade or replacement applications take approximately 3 hours to complete. Applications for retention of limited access permit history require an estimated 30 minutes. Limited access NE multispecies, combination, occasional scallop, red crab, and monkfish vessels must notify NOAA Fisheries via the call-in system of the start date and end date for each fishing trip. The estimated time per response is 2 minutes. It is estimated to take NE multispecies and monkfish vessels approximately 3 minutes to declare of blocks of time out of the gillnet fishery. The burden of vessel monitoring for full-time and part-time limited access scallop vessels or authorized NE multispecies, combination, and occasional scallop vessels is estimated to be 1 hour for installation of a VMS unit, 5 minutes for verification of installation of the VMS unit, and 30 seconds per poll for automated polling of vessel position. Vessels required to have a fully functional VMS unit at all times may request to turn off the VMS (power-down exemption) at approximately 30 minutes per request. Responses to requests to carry an observer are estimated to require 2 minutes per request.

Limited access vessels fishing under DAS requirements that have assisted in USCG search and rescue operations or assisted in towing a disabled vessel may apply for Good Samaritan DAS credits at a burden of 30 minutes per application.

Owners or operators of vessels seeking an LOA to participate in any of the exemption programs must request an LOA from the RA. The estimated time required to request an LOA is 5 minutes. Vessels fishing in the NAFO Regulatory Area that wish to be exempt from NE multispecies regulations while transiting the EEZ with NE multispecies on board, or landing NE multispecies in U.S. ports, must request an LOA (5 minutes) in addition to possessing a valid High Seas Fishing Compliance permit under 50 CFR part 300. An LOA (5 minutes) is also required for permitted vessels intending to transfer selected species from one vessel to another, as follows: Loligo and butterfish moratorium permit, or Illex moratorium permit, and vessels issued a mackerel or squid/butterfish incidental catch permit that intend to transfer Loligo, Illex, or butterfish; vessels issued a NE multispecies or scallop permit that intend to transfer species other than regulated species; and NE multispecies vessels intending to transfer up to 500 lb (227 kg) of combined small-mesh NE multispecies per trip for use as bait.

Owners of charter/party vessels intending to fish in the Nantucket Lightship Closure Area must request an LOA from the Regional Administrator, with an estimated time of 5 minutes per request. Vessels fishing under Charter/Party regulations in GOM closed areas must obtain a Charter/Party Exemption Certificate for GOM Closed Areas, at an estimated 2 minutes per request.

Limited access sea scallop vessels wishing to participate in either the state waters DAS exemption program or the state waters gear exemption program must notify the RA by VMS or call-in notification. Participants in the sea scallop state waters exemption programs using VMS notification must notify the RA prior to the first trip in the exemption program and prior to the first planned trip in the EEZ, at an estimated 2 minutes per response. Participants in these exemption programs using the call-in system must notify the RA at least 7 days prior to fishing under the exemption, at an estimated 2 minutes per call. If participants using the call-in system wish to withdraw from either state waters exemption program prior to the end of the 7-day designated exemption period requirement, they must also call the RA to notify of early withdrawal, at an estimated 2 minutes per call.

Surf clam and ocean quahog vessel owners or operators are required to call the NOAA Fisheries Office of Law Enforcement (OLE) nearest to the point of offloading prior to the departure of the vessel from the dock. It requires approximately 2 minutes for a vessel owner or operator to notify OLE of the vessel's departure from the dock to fish for surf clams or ocean quahogs in the EEZ.

In the American lobster fishery, the estimated time to designate lobster management areas and order trap tags is 5 minutes; a request for additional tags is estimated to take 2 minutes; and a notification of lost tags is estimated to take 3 minutes. Approximately 2,700 vessels will designate lobster management areas on the annual permit renewal application and order trap tags. Approximately 1,350 vessels will not order their total allowable trap allotment initially, and, therefore, will submit a request for additional trap tags (their remaining balance) later in the permit year; approximately 2,700 vessels will report lost tags and request replacement tags. Approximately 69 vessels will choose to participate in the lobster Area 5 waiver program and will therefore, select, cancel, and re-designate this permit category. The initial lobster Area 5 waiver program designations are estimated to take 15 minutes, requests for the cancellation and selection of an alternative permit category are estimated at 15 minutes, and the return of the suspended lobster trap permit is estimated at 2 minutes.

In the NE multispecies fishery, a request for change in permit category designation requires approximately 2 minutes, and a request for transit to another port by a vessel required to remain in the GOM cod trip limit takes 2 minutes.

In the gillnet fisheries for NE multispecies and monkfish, the burden estimate for calling out of the fishery is 3 minutes. Gillnet category designation, including initial requests for gillnet tags, requires approximately 10 minutes. Requests for additional tags require an estimated 2 minutes. Notification of lost tags and requests for replacement tag numbers also require an estimated 2 minutes. It will take approximately 1 minute to attach each gillnet tag.

Requests for state quota transfers in the bluefish and summer flounder fisheries are estimated to require 1 hour.

Needs and Uses: Participants in the marine fishing industry, including vessel owners, vessel operators, and fish dealers, who wish to participate in regulated Northeast Regional fisheries must apply for, and obtain, permits. Persons obtaining permits may also be subject to notification, tagging, and other requirements. This request affects collections associated with the Atlantic Herring, Atlantic Mackerel, Atlantic Sea Scallop, Black Sea Bass, Bluefish, Illex Squid, Loligo Squid, Butterfish, Monkfish, Northeast (NE) Multispecies, Ocean Quahog, Scup, Spiny Dogfish, Summer Flounder, Surf Clam, Tilefish, Deep-sea Red Crab, NE Skates, and American Lobster Fishery Management Plans.

Affected Public: Individuals or households; Business or other for-profit organizations; State, Local or Tribal Government.

Frequency: On occasion. Monthly.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: May 7, 2004.
Gwellnar Banks,
Management Analyst, Office of the Chief Information Officer.

[FR Doc. 04-10898 Filed 5-12-04; 8:45 am]

BILLING CODE 3510-22-S